DEPARTMENT OF DEFENSE

Department of the Army

Privacy Act of 1974; System of Records

AGENCY: Department of the Army, DoD.

ACTION: Notice to amend system of records.

SUMMARY: The Department of the Army is amending a system of records notice in its existing inventory of records systems subject to the Privacy Act of 1974, (5 U.S.C. 552a), as amended.

DATES: This proposed action will be effective without further notice on July 16, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: June 8, 2001.
L.M. Bynum,
Alternate OSD Federal Register Liaison Officer, Department of Defense.

A0015-34 ARPC

System name:

Army Civilian/Military Service Review Board (February 1, 1996, 61 FR 3680).

Changes:

* * * * *

System location:

Delete entry and replace with ‘U.S. Army Reserve Personnel Command, 1 Reserve Way, St. Louis, MO 63132-5200.’

Categories of individuals covered by the system:

Delete entry and replace with ‘Civilians or contractual personnel (or their survivors) who were members of a group certified to have performed active military service with the Armed Forces of the United States.’

Categories of records in the system:

Delete entry and replace with ‘Application of individuals for recognition of service, evidence that supports claim of membership in an approved group, name, address, date of birth, social security number, action of the Army Civilian/Military Service Review Board, Certificate of Release or Discharge from Active Duty, Honorable Discharge Certificate, General Discharge Certificate, and/or Report of Casualty as appropriate, and similar relevant documents.’

Authority for maintenance of the system:

Delete entry and replace with ‘10 U.S.C. 3013, Secretary of the Army; 38 U.S.C. 106, Certain service deemed to be active service; Pub. L. 105-368, Veterans Benefits Enhancement Act of 1998; Pub. L. 105-368, Veterans Benefits Enhancement Act of 1998; Pub. L. 95-202, GI Bill Improvement Act; DoD Directive 1000.20, Active Duty Service Determinations for Civilian or Contractual Groups; Army Regulation 15-34 Department of the Army Individual Service Review Board; and E.O. 9397 (SSN).'

* * * * *

Routine uses of records maintained in the system, including categories of users and the purposes of such uses:

Amend second paragraph to read ‘Copy of Certificate of Release or Discharge from Active Duty is furnished to the Department of Veterans Affairs for benefit entitlements.’

* * * * *

Retention and disposal:

Delete entry and replace with ‘Control cards are permanent; maintain in current file area for 20 years then offer to National Archives and Records Administration, 700 Pennsylvania Avenue, NW., Washington, DC 20408. Approved requests result in the creation of an Official Military Personnel File, containing Certificate of Release or Discharge from Active Duty, Honorable Discharge Certificate, General Discharge Certificate, and/or Report of Casualty as appropriate, which is retired permanently, to National Personnel Records Center, 9700 Page Avenue, St. Louis, MO 63132-5100. Documentation relating to disapproved requests are maintained for 2 years, then destroyed.’

* * * * *

A0015-34 ARPC

System name:

Army Civilian/Military Service Review Board.

System location:

U.S. Army Reserve Personnel Command, 1 Reserve Way, St. Louis, MO 63132-5200.

Categories of individuals covered by the system:

Civilians or contractual personnel (or their survivors) who were members of a group certified to have performed active military service with the Armed Forces of the United States.

Categories of records in the system:

Application of individuals for recognition of service, evidence that supports claim of membership in an approved group, name, address, date of birth, social security number, action of the Army CivilianMilitary Service Review Board, Certificate of Release or Discharge from Active Duty, Honorable Discharge Certificate, General Discharge Certificate, and/or Report of Casualty as appropriate, and similar relevant documents.

Authority for maintenance of the system:

10 U.S.C. 3013, Secretary of the Army; 38 U.S.C. 106, Certain service deemed to be active service; Pub. L. 105-368, Veterans Benefits Enhancement Act of 1998; Pub. L. 95-202, GI Bill Improvement Act; DoD Directive 1000.20, Active Duty Service Determinations for Civilian or Contractual Groups; Army Regulation 15-34 Department of the Army Individual Service Review Board; and E.O. 9397 (SSN).

Purpose(s):

To determine whether individual applicants were members of civilian or contractual groups approved as having rendered service to the Army and whose service constitutes active military service, and to issue appropriate discharge or casualty documents, including applicable pay and equivalent rank or grade.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Copy of Certificate of Release or Discharge from Active Duty is furnished to the Department of Veterans Affairs for benefit entitlements.

The DOD ‘Blanket Routine Uses’ set forth at the beginning of the Army's compilation of systems of records notices apply to this system.

Policies and practices for storing, retrieving, accessing, retaining, and disposing of records in the system:

Storage:

Papers stored in file folders.

Retrievability:

By applicant's surname.

Safeguards:

Information is accessible only to designated persons having official need therefore in the performance of their duties. During non-duty hours, guards assure that records areas are secured.

Retention and disposal:

Control cards are permanent; maintain in current file area for 20 years then offer to National Archives and Records Administration, 700 Pennsylvania Avenue, NW, Washington, DC 20408. Approved requests result in the creation of an Official Military Personnel File, containing Certificate of Release or Discharge from Active Duty, Honorable Discharge Certificate, General Discharge Certificate, and/or Report of Casualty as appropriate, which is retired permanently, to National Personnel Records Center, 9700 Page Avenue, St. Louis, MO 63132-5100. Documentation relating to disapproved requests are maintained for 2 years then destroyed.

System manager(s) and address:

Commander, U.S. Army Reserve Personnel Command, 1 Reserve Way, St. Louis, MO 63132-5200.

Notification procedure:

Individuals seeking to determine whether information about themselves is contained in this system should address written inquiries to the Commander, U.S. Army Reserve Personnel Command, 1 Reserve Way, St. Louis, MO 63132-5200.

For verification purposes, individual should provide the full name at the time of the recognized military service, date and place of birth, details concerning affiliation with group certified to have performed active duty with the Army, and signature.

Record access procedures:

Individuals seeking access to information about themselves contained in this system should address written inquiries to the Commander, U.S. Army Reserve Personnel Command, 1 Reserve Way, St. Louis, MO 63132-5200.

For verification purposes, individual should provide the full name at the time of the recognized military service, date and place of birth, details concerning affiliation with group certified to have performed active duty with the Army, and signature.

Contesting record procedures:

The Army's rules for accessing records, contesting contents, and appealing initial agency determinations are published in Army Regulation 340-21; 32 CFR part 505; or may be obtained from the system manager.

Record source categories:

From the individual.

Exemptions claimed for the system:

None.

[FR Doc. 01-14983 Filed 6-13-01; 8:45 am]

BILLING CODE 5001-08-M